DEPARTMENT OF AGRICULTURE

Agricultural Marketing Service

[Docket No. AMS-PY-07-0105]

Notice of Request for an Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for an extension of a currently approved information collection for organic exemption requests under national research and promotion programs. Upon OMB approval, this burden will be merged into the information collection currently approved under OMB No. 0581-0093 for National Research, Promotion, and Consumer Information Programs.

DATES: Comments on this notice must be received by October 29, 2007.

ADDITIONAL INFORMATION: Interested persons are invited to submit written comments on the Internet at http://www.regulations.gov or to Angela C. Snyder, Research and Promotion; Standards, Promotion & Technology Branch; Poultry Programs, AMS, U.S. Department of Agriculture; 1400 Independence Avenue, SW., Stop 0256; Washington, DC 20250-0259, (202) 720-0976. Comments should reference the docket number and the date and page number of this issue of the Federal Register and will be available for public inspection in the Office of the Docket Clerk, Poultry Programs, AMS, USDA, Room 3953-S, 1400 Independence Avenue, SW., Washington, DC 20250-0259, during regular business hours, or can be viewed at: http://www.regulations.gov.

SUPPLEMENTARY INFORMATION: Title: Organic Producer and Marketer Exemption From Assessment Under Research and Promotion Programs.

OMB Number: 0581-0217.

Expiration Date, as approved by OMB: 01/31/2008.

Type of Request: Extension of a currently approved information collection.

Abstract: National research and promotion programs: 7 CFR parts 1150 (dairy), 1160 (fluid milk), 1205 (cotton), 1206 (mango), 1207 (potato), 1209 (mushroom), 1210 (watermelon), 1215 (popcorn), 1216 (peanut), 1218 (blueberry), 1219 (Hass avocado), 1220 (soybean), 1230 (pork), 1240 (honey), 1250 (egg), 1260 (beef), and 1280 (lamb) are under AMS oversight, and are wholly industry-funded and -operated. These programs are charged with creating and expanding markets for the agricultural commodities they represent. Producers, handlers, importers, and/or others in the marketing chain pay assessments to these commodity boards to fund the programs. Research and promotion programs allow industries to establish, finance, and carry out coordinated programs of research, producer and consumer education, and promotion to improve, maintain, and develop markets for their commodities.

Any person that produces and markets solely 100 percent organic products, and does not produce any conventional or non-organic products, is exempt from paying assessments under a commodity promotion law with respect to any agricultural commodity that is produced on a certified organic farm as defined in Section 2103 of the Organic Foods Production Act of 1990 (7 U.S.C. 6502). To be exempt from paying assessments under a research and promotion program, an application—Organic Exemption Request Form—must be submitted to the applicable board or council prior to or during the initial applicable assessment period, and annually thereafter, as long as the applicant continues to be eligible for the exemption. The information request requires the following: applicant's name, name and address of the company, telephone and fax numbers, type of operation, list of commodities produced, a copy of the applicant's organic farm or organic handling operation certificate provided by a USDA-accredited certifying agent under the Organic Foods Production Act of 1990 (7 U.S.C. 6502), and a signed certification that the applicant meets all of the requirements specified for an assessment exemption. If the applicant complies with these requirements and is eligible for a promotion assessment exemption, the board or council will approve the exemption and notify the applicant within 30 days of receiving the application. If the application is disapproved, the board or council will notify the applicant of the reason(s) for disapproval. The Secretary may review any decisions made by the boards or councils at her or his discretion.

The form covered under this collection requires the minimum information necessary to effectively carry out the requirements under Section 501 the Federal Agriculture Improvement and Reform Act (7 U.S.C. 7401), and every effort has been made to minimize any unnecessary recordkeeping requirements. AMS has determined that there is no practical method for collecting the required information without the use of this form. The form is available from the boards and councils in hard copy and electronic fillable format. The information collection is used only by authorized board or council employees and representatives of USDA, including AMS staff. Authorized board and council employees are the primary users of the information, and AMS is the secondary user.

AMS is committed to complying with the E-Government Act, which requires Government agencies in general to provide the public the option of submitting information or transacting business electronically to the maximum extent possible.

Upon OMB approval, this burden will be merged into the information collection currently approved under OMB No. 0581-0093 for National Research, Promotion, and Consumer Information Programs.

Estimate of Burden: Public reporting burden for this collection of information is estimated to average 0.50 hours per response.

Respondents: Eligible certified organic producers and marketers.

Estimated Number of Respondents: 2,165.

Estimated Total Annual Responses: 2,165.

Estimated Number of Responses per Respondent: 1.

Estimated Total Annual Burden on Respondents: 1,082.5 hours

Copies of this information collection can be obtained from Angela C. Snyder, Research and Promotion; Standards, Promotion & Technology Branch at (202) 720-0976.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All comments received will be available for public inspection during regular business hours at the above address and may be viewed at http://www.regulations.gov. All responses to this notice will be summarized and included in the request for OMB approval. All comments will also become a matter of public record.

Dated: August 22, 2007.
Lloyd C. Day,
Administrator, Agricultural Marketing Service.

[FR Doc. E7-16972 Filed 8-27-07; 8:45 am]

BILLING CODE 3410-02-P